DEPARTMENT OF HEALTH AND HUMAN SERVICES

Health Resources and Services Administration

Study Regarding Shortages of Licensed Pharmacists

AGENCY: Health Resources and Services Administration, HHS.

ACTION: Notice.

SUMMARY: The “Healthcare Research and Quality Act of 1999”, enacted on December 6, 1999, requires the Department of Health and Human Services (HHS) to “conduct a study to determine whether and to what extent there is a shortage of licensed pharmacists.” The Department will include in this study a summary of comments from interested public and private entities. The Department invites all interested public and private entities to submit comments on specific issues, including data and studies supporting their comments.

DATES: Comments must be submitted by May 1, 2000.

ADDRESSES: Address all comments concerning this notice to Vincent C. Rogers, D.D.S., M.P.H., Associate Administrator, Bureau of Health Professions, Health Resources and Services Administration, Room 8-05, Parklawn Building, 5600 Fishers Lane, Rockville, Maryland 20857.

SUPPLEMENTARY INFORMATION: On December 6, 1999, Congress enacted the Healthcare Research and Quality Act of 1999, Pub. L. 106-129, to amend title IX of the Public Health Service Act by revising and extending the Agency for Healthcare Policy and Research (now referred to as the Agency for Healthcare Research and Quality). Section 5 of Pub. L. 106-129 requires the Secretary of Health and Human Services (HHS), through the appropriate agencies of the Public Health Service, to conduct a study “to determine whether and to what extent there is a shortage of licensed pharmacists' and to report back to Congress in one year after the date of enactment of the Act on its findings.

A number of associations, such as the National Association of Chain Drug Stores, have been voicing concerns that a shortage of pharmacists in some areas of the country might create a major health crisis. HHS invites comments from public and private sources on the following topics related to pharmacy shortages. Please address your comments by number as indicated below. You need not address all topics.

1. Shortage of pharmacists; for example, vacancy rates for pharmacists' jobs over time, existing documentation of delayed store openings or reduction in store hours, existing documentation of signing bonuses and other hiring incentives, and increases in wages;

2. Difficulties that communities may be experiencing in accessing pharmacy services. HHS is particularly interested in difficulties confronting those in rural or underserved areas, services for the elderly, and other evidence of unmet needs due to a shortage of pharmacists;

3. How pharmacies and employers are addressing a shortage of pharmacists;.

4. The use of technicians, and State laws governing ratios of pharmacists to technicians, and limitations on the functions technicians are permitted to perform, and any requirements for technician certification;

5. The impact of the growth of managed care and third-party coverage of prescriptions on pharmacy practice;

6. Problems or adverse events connected with a shortage of pharmacists, e.g., medication errors;

7. The impact a drug benefit for the Medicare population might have on prescription volume and the demand for pharmacists;

8. Uses of automation or technology to assist pharmacists, such as the use of electronic transmission of prescriptions, methods of streamlining dispensing processes, and technologies that may be under development to improve efficiency of pharmacists in their duties;

9. The impact of Internet and mail order pharmacies on the demand for pharmacists; and

10. Existing information on the current pharmacist education process; in particular, applications to pharmacy programs, the impact that the shift to the doctor of pharmacy as the first professional degree may have on pharmacy supply, trends in graduates taking residencies, and students' job preferences.

Dated: March 9, 2000.
Claude Earl Fox,
Administrator.

[FR Doc. 00-6427 Filed 3-15-00; 8:45 am]

BILLING CODE 4160-15-P